NATIONAL SCIENCE FOUNDATION

Proposal Review Panel for Materials Research; Notice of Meeting

In accordance with the Federal Advisory Committee Act (Pub. L. 92-463 as amended), the National Science Foundation announces the following meeting:

Name: Site visit review of the Materials Research Science and Engineering Center (MRSEC) at Cornell University by NSF Division of Materials Research (DMR) #1203.

Dates and Times: Sunday, August 23, 2009; 6 p.m.-9 p.m., Monday, August 24, 2009; 7:45 a.m.-9 p.m., Tuesday, Aug 25, 2009; 8 a.m.-4:30 p.m.

Place: Ithaca, NY.

Type of Meeting: Part-Open.

Contact Person: Dr. Thomas Rieker, Program Director, Materials Research Science and Engineering Centers Program, Division of Materials Research, Room 1065, National Science Foundation, 4201 Wilson Boulevard, Arlington, VA 22230, Telephone (703) 292-4914.

Purpose of Meeting: To provide advice and recommendations concerning further support of the MRSEC at Cornell University.

Agenda

Sunday, Aug 23, 2009

6 p.m.-7 p.m. Closed—Executive Session.

7 p.m.-9 p.m. Open—Poster Session.

Monday, Aug 24, 2009

7:45 a.m.-4:45 p.m. Open—Review of the Cornell MRSEC.

4:45 p.m.-6:30 p.m. Closed—Executive Session.

6:30 p.m.-9 p.m. Open—Dinner.

Tuesday, Aug 25, 2009

8 a.m.-9 a.m. Closed—Executive session.

9 a.m.-10:45 a.m. Open—Review of the Cornell MRSEC.

10:45 a.m.-4:30 p.m. Closed—Executive Session, Draft and Review Report.

Reason for Closing: The work being reviewed may include information of a proprietary or confidential nature, including technical information; financial data, such as salaries and personal information concerning individuals associated with the proposals. These matters are exempt under 5 U.S.C. 552 b(c), (4) and (6) of the Government in the Sunshine Act.

Dated: July 14, 2009.
Susanne Bolton,
Committee Management Officer.

[FR Doc. E9-17028 Filed 7-16-09; 8:45 am]

BILLING CODE 7555-01-P